FEDERAL ELECTION COMMISSION

Sunshine Act Meetings

FEDERAL REGISTER CITATION NOTICE OF PREVIOUS ANNOUNCEMENT: 89 FR 3402.

PREVIOUSLY ANNOUNCED TIME AND DATE OF THE MEETING: Tuesday, January 23, 2024, at 1:00 p.m. and its continuation at the conclusion of the open meeting on January 25, 2024.

CHANGES IN THE MEETING: The meeting will begin at 10:00 a.m. on January 23, 2024.

CONTACT PERSON FOR MORE INFORMATION: Judith Ingram, Press Officer, Telephone: (202) 694-1220.

(Authority: Government in the Sunshine Act, 5 U.S.C. 552b)

Vicktoria J. Allen,
Deputy Secretary of the Commission.

[FR Doc. 2024-01310 Filed 1-19-24; 11:15 am]

BILLING CODE 6715-01-P